DEPARTMENT OF HEALTH AND HUMAN SERVICES

National Institutes of Health

Center for Scientific Review; Amended Notice of Meeting

Notice is hereby given of a change in the meeting of the Center for Scientific Review Special Emphasis Panel, June 11, 2007, 7 a.m. to June 11, 2007, 6 p.m., Holiday Inn Georgetown, 2101 Wisconsin Avenue, NW., Washington, DC 20007 which was published in the Federal Register on May 17, 2007, 72 FR 27831-27832.

The meeting title has been changed to “Small Business: Biomedical Devices and Bioengineering”. The meeting is closed to the public.

Dated: May 21, 2007.
Jennifer Spaeth,
Director, Office of Federal Advisory Committee Policy.

[FR Doc. 07-2614 Filed 5-25-07; 8:45 am]

BILLING CODE 4140-01-M